Executive Order 13897 of October 31, 2019

Improving Federal Contractor Operations by Revoking Executive Order 13495

By the authority vested in me as President by the Constitution and the laws of the United States of America, including the Federal Property and Administrative Services Act, 40 U.S.C. 101 et seq., and in order to promote economy and efficiency in Federal Government procurement, it is hereby ordered as follows:

Section 1. Revocation of Prior Order. Executive Order 13495 of January 30, 2009 (Nondisplacement of Qualified Workers Under Service Contracts), which requires that successor Federal contractors in certain circumstances offer a right of first refusal of employment to employees employed under the predecessor contract, is hereby revoked.

Sec. 2. Agency Implementation. The Secretary of Labor (Secretary), the Federal Acquisition Regulatory Council, and heads of executive departments and agencies shall, consistent with law, promptly move to rescind any orders, rules, regulations, guidelines, programs, or policies implementing or enforcing Executive Order 13495.

Sec. 3. Enforcement. The Secretary shall terminate, effective immediately, any investigations or compliance actions based on Executive Order 13495.

Sec. 4. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

October 31, 2019.

[FR Doc. 2019-24288

Filed 11-4-19; 11:15 am]

Billing code 3295-F0-P